OFFICE OF PERSONNEL MANAGEMENT

5 CFR Part 250

RIN 3206-AJ92

Human Resources Management in Agencies

AGENCY: Office of Personnel Management.

ACTION: Correcting amendment.

SUMMARY: The Office of Personnel Management (OPM) is correcting a final rule to implement certain provisions of the Chief Human Capital Officers Act of 2002, which set forth new OPM and agency responsibilities and requirements to enhance and improve the strategic management of the Federal Government's civilian workforce, as well as the planning and evaluation of agency efforts in that regard. This technical correction makes sure that the authority citation for 5 CFR part 250 is revised for subparts A, B, and C.

DATES: Effective Date: June 18, 2008.

FOR FURTHER INFORMATION CONTACT: Charles D. Grimes by phone at 202-418-3163, by FAX at 202-606-2838, or by e-mail at pay-performance-policy@opm.gov. You may contact Mr. Grimes by TTY on 202-418-3134.

SUPPLEMENTARY INFORMATION: The Office of Personnel Management (OPM) published a document in the Federal Register of April 28, 2008, (73 FR 23012) which issued final regulations to change 5 CFR part 250, to read “Human Resources Management in Agencies” to reflect current usage, to make a plain language revision in subpart A, and to add regulations on strategic human resources management as new subpart B. On May 6, 2008, OPM published a correcting amendment in the Federal Register (73 FR 24851) to ensure that subpart C of part 250 remained unaffected by the changes of the new final rule. OPM was later notified that the correcting amendment, as it stands, results in two authority citations for 5 CFR part 250. This correction consolidates these two authority citations into a single citation.

List of Subjects in 5 CFR Part 250

Authority delegations (Government agencies), Government employees.

Office of Personnel Management.
Charles D. Grimes III,
Deputy Associate Director, Center for Performance and Pay Systems.

Accordingly, 5 CFR part 250 is corrected by making the following correcting amendment:

PART 250—HUMAN RESOURCES MANAGEMENT IN AGENCIES

1. The authority citation for part 250 is revised to read as follows:

Authority: 5 U.S.C. 1101 note, 1103(a)(5), 1103(c), 1104, 1302, 3301, 3302; E.O. 10577, 12 FR 1259, 3 CFR, 1954-1958 Comp., p. 218; E.O. 13197, 66 FR 7853, 3 CFR 748 (2002).

Subpart B also issued under 5 U.S.C. 1401, 1401 note, 1402.

[FR Doc. E8-13734 Filed 6-17-08; 8:45 am]

BILLING CODE 6325-39-P